DEPARTMENT OF COMMERCE

National Oceanic and Atmospheric Administration

50 CFR Part 679

[Docket No. 950905226-5282-01; I.D. 083095A]

RIN 0648-AH00

Fisheries of the Exclusive Economic Zone Off Alaska; Extension of Allocations to Inshore and Offshore Components; Correction

AGENCY: National Marine Fisheries Service (NMFS), National Oceanic and Atmospheric Administration (NOAA), Commerce.

ACTION: Final rule; correcting amendment.

SUMMARY: This document contains a correction to a final rule that was published in the Federal Register on December 12, 1995.

DATES: Effective August 9, 2001.

FOR FURTHER INFORMATION CONTACT: Kent Lind, 907-586-7650.

SUPPLEMENTARY INFORMATION: A final rule was published in the Federal Register at 60 FR 63654 (December 12, 1995) that apportioned pollock nonspecific reserve between inshore and offshore components of the groundfish fishery in the Bering Sea and Aleutian Islands applicable through December 31, 1998. The applicable period for that allocation having expired, the paragraph referring to that allocation of pollock nonspecific reserve is no longer applicable and must be removed.

List of Subjects in 50 CFR Part 679

Alaska, Fisheries, Recordkeeping and reporting requirements.

Accordingly, 50 CFR part 679 is corrected by making the following correcting amendment:

PART 679—FISHERIES OF THE EXCLUSIVE ECONOMIC ZONE OFF ALASKA

1. The authority citation for part 679 continues to read as follows:

Authority: 16 U.S.C. 773 et seq., 1801 et seq., and 1631 et seq.

§ 679.20 [Corrected]

2. In § 679.20(b), paragraph (b)(1)(v) is redesignated as paragraph (b)(1)(iv) and paragraph (b)(1)(iv) is removed.

Dated: August 3, 2001.
John Oliver,
Acting Assistant Administrator for Fisheries, National Marine Fisheries Service.

[FR Doc. 01-20027 Filed 8-8-01; 8:45 am]

BILLING CODE 3510-22-S